DEPARTMENT OF COMMERCE

Patent and Trademark Office

Agency Information Collection Activities; Submission to the Office of Management and Budget (OMB) for Review and Approval; Comment Request; Applications for Trademark Registration

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0009 (Applications for Trademark Registration). The purpose of this notice is to allow 60 days for public comment preceding submission of the information collection to OMB.

DATES: To ensure consideration, comments regarding this information collection must be received on or before February 16, 2021.

ADDRESSES: Interested persons are invited to submit written comments by any of the following methods. Do not submit Confidential Business Information or otherwise sensitive or protected information.

• Email: InformationCollection@uspto.gov. Include “0651-0009 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email to Catherine.Cain@uspto.gov with “0651-0009 comment” in the subject line. Additional information about this information collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses who use their marks, or intend to use their marks, in commerce regulated by Congress may file an application with the USPTO to register their marks. Registered marks remain on the register indefinitely, so long as the owner of the registration files the necessary maintenance documents.

This information collection addresses submissions required by the regulations at 37 CFR part 2 for initial applications regarding the registration of trademarks, service marks, collective trademarks and service marks, collective membership marks, and certification marks. These regulations also mandate that each registered mark appear in the principle register or supplemental register, and that each entry include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another. The Federal trademark registration process may thereby reduce the number of filings between both litigating parties and the courts.

II. Method of Collection

Items in this information collection must be submitted via online electronic submissions. In limited circumstances, applicants may also be permitted to submit the information in paper form by mail, fax, or hand delivery.

III. Data

OMB Control Number: 0651-0009.

Form Numbers:

• PTO 1478 (Trademark/Service Mark Application, Principal Register)

• PTO 1479 (Trademark/Service Mark Form, Supplemental Register)

• PTO 1480 (Certification Mark Form, Principal Register)

• PTO 1481 (Collective Membership Mark Form, Principal Register)

• PTO 1482 (Collective Trademark/Service Mark Form, Principal Register)

Type of Review: Revision of a currently approved information collection.

Affected Public: Private sector; individuals or households.

Estimated Number of Respondents: 506,837 respondents per year.

Estimated Number of Responses: 506,837 responses per year.

Estimated Time per Response: The USPTO estimates that it takes the public approximately 40 minutes (0.67 hours) to 50 minutes (0.83 hours), depending on the complexity of the situation, to gather the necessary information, prepare the appropriate documents, and submit the information to the USPTO.

Estimated Total Annual Respondent Burden Hours: 377,830 hours.

Estimated Total Annual Respondent Cost Burden: $151,132,000.

Table 1—Total Hourly Burden for Private Sector Respondents
Item No. | Item | Estimated annual respondents | Estimated annual responses | Estimated time for response (hours) | Estimated annual burden (hour/year) | Rate ¹ ($/hour) | Estimated annual respondent cost burden
|  |  | (a) | (b) | (a) × (b) = (c) | (d) | (c) × (d) = (e)
1 | Use-Based Trademark/Service Mark Applications (TEAS Standard) | 94,956 | 94,956 | 0.75 (45 minutes) | 71,217 | $400 | $28,486,800
1 | Use-Based Trademark/Service Mark Applications (TEAS Plus) | 90,111 | 90,111 | 0.83 (50 minutes) | 74,792 | 400 | 29,916,800
2 | Intent to Use Trademark/Service Mark Application (TEAS Standard) | 99,770 | 99,770 | 0.67 (40 minutes) | 66,846 | 400 | 26,738,400
2 | Intent to Use Trademark/Service Mark Application (TEAS Plus) | 94,678 | 94,678 | 0.75 (45 minutes) | 71,009 | 400 | 28,403,600
3 | Applications for Registration of Trademark/Service Mark under 37 CFR § 44 (TEAS Standard) | 13,318 | 13,318 | 0.67 (40 minutes) | 8,923 | 400 | 3,569,200
3 | Applications for Registration of Trademark/Service Mark under 37 CFR 44 (TEAS Plus) | 12,638 | 12,638 | 0.75 (45 minutes) | 9,479 | 400 | 3,791,600
| Totals | 405,471 | 405,471 |  | 302,266 |  | 120,906,400

Table 2—Total Hourly Burden for Individuals or Households Respondents
Item No. | Item | Estimated annual respondents | Estimated annual responses | Estimated time for response (hours) | Estimated annual burden (hour/year) | Rate ² ($/hour) | Estimated annual respondent cost burden
|  |  | (a) | (b) | (a) × (b) = (c) | (d) | (c) × (d) = (e)
1 | Use-Based Trademark/Service Mark Applications (TEAS Standard) | 23,739 | 23,739 | 0.75 (45 minutes) | 17,804 | $400 | $7,121,600
1 | Use-Based Trademark/Service Mark Applications (TEAS Plus) | 22,528 | 22,528 | 0.83 (50 minutes) | 18,698 | 400 | 7,479,200
2 | Intent to Use Trademark/Service Mark Application (TEAS Standard) | 24,942 | 24,942 | 0.67 (40 minutes) | 16,711 | 400 | 6,684,400
2 | Intent to Use Trademark/Service Mark Application (TEAS Plus) | 23,669 | 23,669 | 0.75 (45 minutes) | 17,752 | 400 | 7,100,800
3 | Applications for Registration of Trademark/Service Mark under 37 CFR § 44 (TEAS Standard) | 3,329 | 3,329 | 0.67 (40 minutes) | 2,230 | 400 | 892,000
3 | Applications for Registration of Trademark/Service Mark under 37 CFR 44 (TEAS Plus) | 3,159 | 3,159 | 0.75 (45 minutes) | 2,369 | 400 | 947,600
| Totals | 101,366 | 101,366 |  | 75,564 |  | 30,225,600

Estimated Total Annual (Non-hour) Respondent Cost Burden: $152,980,250. There are no capital start-up, maintenance, or recordkeeping fees associated with this information collection. However, this information collection does have annual (non-hour) cost burden in the form of filing fees, processing fees, and postage costs. The USPTO amended its regulations to set, increase, or decrease certain trademark fees, to become effective January 2, 2021, including the fees in this information collection.

¹ 2019 Report of the Economic Survey, published by the Committee on Economics of Legal Practice of the American Intellectual Property Law Association (AIPLA); https://www.aipla.org/detail/journal-issue/2019-report-of-the-economic-survey. The USPTO uses the mean rate for attorneys in private firms which is $400 per hour.

² 2019 Report of the Economic Survey, published by the Committee on Economics of Legal Practice of the American Intellectual Property Law Association (AIPLA); https://www.aipla.org/detail/journal-issue/2019-report-of-the-economic-survey. The USPTO uses the mean rate for attorneys in private firms which is $400 per hour.

A complete application must include a filing fee for each class of goods and services. Therefore, the total filing fees associated with this information collection can vary depending on the number of classes in each application. The total filing fees of $152,714,650, shown in the table below, reflect the filing fee for one class associated with this information collection.

³ This fee rate is effective on January 2, 2021.

Table 3—Total Non-Hour Respondent Cost Burden
Item No. | Item | Estimated annual responses | Amount ³ | Totals
|  | (a) | (b) | (a) × (b) = (c)
1 | Use-Based Trademark/Service Mark Applications (TEAS Standard) | 118,695 | $350 | $41,543,250
1 | Use-Based Trademark/Service Mark Applications (TEAS Plus) | 112,639 | 250 | 28,159,750
2 | Intent to Use Trademark/Service Mark Application (TEAS Standard) | 124,712 | 350 | 43,649,200
2 | Intent to Use Trademark/Service Mark Application (TEAS Plus) | 118,347 | 250 | 29,586,750
3 | Applications for Registration of Trademark/Service Mark under 37 CFR § 44 (TEAS Standard) | 16,647 | 350 | 5,826,450
3 | Applications for Registration of Trademark/Service Mark under 37 CFR 44 (TEAS Plus) | 15,797 | 250 | 3,949,250
| Totals | 506,837 |  | 152,714,650

In addition, the USPTO charges a processing fee of $100 per class for TEAS Plus applications that do not meet the TEAS Plus filing requirements. In such cases, the applicant will be required to submit the additional processing fee of $100 per class. The total processing fees associated with this information collection can vary depending on the number of classes in each application. The total processing fees of $265,600 is shown in the table below.

In addition, the USPTO charges a processing fee of $100 per class for TEAS Plus applications that do not meet the TEAS Plus filing requirements. In such cases, the applicant will be required to submit the additional processing fee of $100 per class. The total processing fees associated with this information collection can vary depending on the number of classes in each application. The total processing fees of $265,000 is shown in the table below.

Table 4—Processing Fees
Item No. | Item | Responses | Amount ⁴ | Totals
|  | (a) | (b) | (a) × (b) = (c)
1 | Processing fee for applications that fail to meet the additional filing and processing requirements for reduced filing fee (TEAS Plus) | 2,656 | $100 | $265,600
| Totals | 2,656 |  | 265,600

Therefore, the USPTO estimates that the total annual (non-hour) cost burden for this information collection in the form of filing fees ($152,714,650) and processing fees ($265,600) is $152,980,250.

⁴ This fee rate is scheduled to become effective on January 2, 2021.

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personal identifying information in a comment, be aware that the entire comment—including personal identifying information—may be made publicly available at any time. While you may ask in your comment to withhold personal identifying information from public view, the USPTO cannot guarantee that it will be able to do so.

Kimberly Hardy,
Information Collections Officer, Office of the Chief Administrative Officer, United States Patent and Trademark Office.

[FR Doc. 2020-27904 Filed 12-17-20; 8:45 am]

BILLING CODE 3510-16-P